DEPARTMENT OF THE INTERIOR

National Park Service

Notice of Inventory Completion: Phoebe A. Hearst Museum of Anthropology, University of California, Berkeley, Berkeley, CA

AGENCY: National Park Service, Interior.

ACTION: Notice.

Notice is here given in accordance with of the Native American Graves Protection and Repatriation Act (NAGPRA), 25 U.S.C. 3003, of the completion of an inventory of human remains and associated funerary objects in the possession of the Phoebe A. Hearst Museum of Anthropology, University of California, Berkeley, Berkeley, CA. The human remains and associated funerary objects were removed from Tehama County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

An assessment of documents associated with the human remains and associated funerary objects was made by professional staff of the Phoebe A. Hearst Museum of Anthropology in consultation with representatives of the Grindstone Indian Rancheria of Wintun-Wailaki Indians of California; Paskenta Band of Nomlaki Indians of California; and Round Valley Indian Tribes of the Round Valley Reservation, California.

Between 1953 and 1955, human remains representing a minimum of 100 individuals were removed from CA-Teh-58, a site located on the northwest bank of the Sacramento River approximately 2.25 miles east of Red Bluff, Tehama County, CA. The human remains and associated funerary objects were accessioned into the museum in 1953 and 1955 (Accessions UCAS-246 and UCAS-337). No known individuals were identified. The 2,912 associated funerary objects are 18 animal bone and fragments, 6 abalone fragments, 8 abraders, 19 acorns, 1 arrow point, 1 arrow shaft straightener, 7 awls, 1 bar, 1,806 beads, 1 bird burial, 5 blades, 10 can fragments, 9 choppers, 2 claws, 6 concretions, 1 piece of cordage, 2 cores, 1 cup, 1 cylinder, 9 dices, 1 disc, 5 drills, 2 fishhooks, 187 obsidian and chert flakes, 1 iron guide, 5 knives, 2 manos, the remains of 1 “meal,” 1 metate, 1 iron nail, 14 flint and obsidian nodules, 5 pebbles, 1 pencil, 11 pendants, 27 pestles, 7 lumps of pigment, 1 pipe, 62 points, 41 projectile points, 11 scrapers, 568 shells and shell fragments (approximate count), 8 shoe fragments, 12 shroud fragments, 1 skirt, 9 slabs, 6 stones, 3 animal teeth, 4 twine fragments, and 1 whistle.

Site CA-Teh-58 is a burial mound, associated with at least one permanent village site. The University of California Archaeological Survey started its excavation in 1953. Although, in 1948, the land was privately owned, the National Park Service provided the permit and the project funding under the River Basin Survey program. The historic age of the site is confirmed by the presence of glass beads and other metallic objects that are associated with some of the burials. Site CA-Teh-58 lies entirely within the Nomlaki aboriginal territory whose northern border extends to Cottonwood Creek almost 10 miles to the north of the site. Descendants of the Nomlaki are members of the Grindstone Indian Rancheria of Wintun-Wailaki Indians of California; Paskenta Band of Nomlaki Indians of California; and Round Valley Indian Tribes of the Round Valley Reservation, California.

Officials of the Phoebe A. Hearst Museum of Anthropology have determined that, pursuant to 25 U.S.C. 3001 (9-10), the human remains described above represent the physical remains of 100 individuals of Native American ancestry. Officials of the Phoebe A. Hearst Museum of Anthropology have also determined that, pursuant to 25 U.S.C. 3001 (3)(A), the 2,912 objects described above are reasonably believed to have been placed with or near individual human remains at the time of death or later as part of the death rite or ceremony. Lastly, officials of the Phoebe A. Hearst Museum of Anthropology have determined that, pursuant to 25 U.S.C. 3001 (2), there is a relationship of shared group identity that can be reasonably traced between the Native American human remains and associated funerary objects and the Grindstone Indian Rancheria of Wintun-Wailaki Indians of California; Paskenta Band of Nomlaki Indians of California; and Round Valley Indian Tribes of the Round Valley Reservation, California.

Representatives of any other Indian tribe that believes itself to be culturally affiliated with the human remains and associated funerary objects should contact Judd King, Interim Director of the Phoebe A. Hearst Museum of Anthropology, University of California, Berkeley, Berkeley, CA 94720, telephone (510) 642-3682, before September 29, 2008. Repatriation of the human remains and associated funerary objects to the Grindstone Indian Rancheria of Wintun-Wailaki Indians of California; Paskenta Band of Nomlaki Indians of California; and Round Valley Indian Tribes of the Round Valley Reservation, California may proceed after that date if no additional claimants come forward.

The Phoebe A. Hearst Museum of Anthropology is responsible for notifying the Grindstone Indian Rancheria of Wintun-Wailaki Indians of California; Paskenta Band of Nomlaki Indians of California; and Round Valley Indian Tribes of the Round Valley Reservation, California that this notice has been published.

Dated: July 28, 2008.
Sherry Hutt,
Manager, National NAGPRA Program.

[FR Doc. E8-20095 Filed 8-28-08; 8:45 am]

BILLING CODE 4312-50-S